FEDERAL ELECTION COMMISSION

Sunshine Act Meeting

TIME AND DATE: Thursday, October 26, 2017 at 10:00 a.m.

PLACE: 999 E Street NW., Washington, DC (Ninth Floor)

STATUS: This meeting will be open to the public.

MATTERS TO BE CONSIDERED:

Draft Advisory Opinion 2017-11: Gallegly for Congress

Campaign Guide for Corporations and Labor Organizations

Audit Division Recommendation Memorandum on the Freedom's Defense Fund (FDF) (A13-14)

Audit Division Recommendation Memorandum on the Conservative Majority Fund (CMF) (A13-17)

Management and Administrative Matters

CONTACT PERSON FOR MORE INFORMATION: Judith Ingram, Press Officer, Telephone: (202) 694-1220.

Individuals who plan to attend and require special assistance, such as sign language interpretation or other reasonable accommodations, should contact Dayna C. Brown, Secretary and Clerk, at (202) 694-1040, at least 72 hours prior to the meeting date.

Dayna C. Brown,
Secretary and Clerk of the Commission.

[FR Doc. 2017-23085 Filed 10-19-17; 4:15 pm]

BILLING CODE 6715-01-P